DEPARTMENT OF COMMERCE

National Oceanic and Atmospheric Administration

[I.D. 071003D]

Marine Mammals; Notice Announcing Preparation of an Environmental Assessment for a Take Reduction Plan for the Western North Atlantic Coastal Stock of Bottlenose Dolphins

AGENCY: National Marine Fisheries Service (NMFS), National Oceanic and Atmospheric Administration (NOAA), Commerce.

ACTION: Notice announcing preparation of an Environmental Assessment(EA).

SUMMARY: NMFS announces its intention to prepare a draft EA, in accordance with the National Environmental Policy Act (NEPA), for the development of a Bottlenose Dolphin Take Reduction Plan (BDTRP) to reduce the incidental mortality and serious injury of the western North Atlantic coastal stock of bottlenose dolphins (bottlenose dolphin) in commercial fisheries to below the potential biological removal(PBR)level for the stock. Through a previous notice, NMFS informed the public of the agency's intent to prepare an Environmental Impact Statement (EIS). NMFS has since received information indicating that in this case an EA is a more appropriate analysis under NEPA.

DATES: See SUPPLEMENTARY INFORMATION section for information on the comment period for the EA.

ADDRESSES: For additional information on the BDTRP, contact Katie Moore, NMFS Southeast Regional Office, 9721 Executive Center Drive N, St. Petersburg, FL 33702, fax: 727-570-5517; Brian Hopper, NMFS Northeast Regional Office, One Blackburn Drive, Gloucester, MA 01930-2298, fax: 978 281-9394; or Tanya Dobrzynski, NMFS Office of Protected Resources, 1315 East-West Highway, Silver Spring, MD 20910, fax: 301-713-0376.

FOR FURTHER INFORMATION CONTACT: Katie Moore, phone: 727-570-5312; or Tanya Dobrzynski, phone: 301-713-2322. Individuals who use a telecommunications device for the deaf (TDD) may call the Federal Information Relay Service at 1-800-877-8339 between 8 a.m. and 4 p.m. Eastern time, Monday through Friday, excluding Federal holidays.

SUPPLEMENTARY INFORMATION:

Electronic Access

For additional information on western North Atlantic coastal bottlenose dolphins, refer to the final 2002 Atlantic and Gulf of Mexico Marine Mammal Stock Assessment Reports (SARs). The reports can be accessed via the Internet at: http://www.nmfs.noaa.gov/prot_res/PR2/Stock_Assessment_Program.html. For more information on the BDTRP, access the BDTRP site at: http://www.nmfs.noaa.gov/prot_res/PR2/Health_html.

On July 22, 2002, NOAA Fisheries published in the Federal Register a Notice of Intent (NOI) to Prepare an Environmental Impact Statement(EIS)(67 FR 47772) for the development of a BDTRP. At that time, given the best available information, NMFS believed that the regulations to implement the BDTRP would have a significant adverse impact on participants in the related fisheries, as well as a significant beneficial impact on the western North Atlantic coastal stock of bottlenose dolphin. On September 19, 2002, NMFS published a notice reopening the comment period for an additional 45 days to ensure that the public had ample opportunity to provide comments. Since publication of the NOI, NMFS has received additional information on the status of the western North Atlantic Bottlenose Dolphin stock complex. New abundance estimates indicate an increase in stock abundance and an associated increase in potential biological removal (PBR) for 6 of the 8 management units within the bottlenose dolphin stock complex. Because of this new information, NMFS believes that take reduction measures necessary to reach PBR are much less likely to significantly impact either the stock or the related fisheries, as previously believed.

Pursuant to the National Oceanic and Atmospheric Administration (NOAA's) Administrative Order 216-6, when the agency determines not to pursue a proposed action after a notice of intent has been published, a second notice should be published to inform the public of the change. Through this action, NMFS is providing notice that it will prepare an EA rather than an EIS as previously announced. The purpose of an EA is to determine whether significant environmental impacts could result from a proposed action. If the action is determined not to be significant, the EA and resulting Finding of No Significant Impact will be the final environmental documents required by the NEPA. If the EA reveals that significant environmental impacts may be reasonably expected to occur, then the agency will prepare an EIS. Through comments received on the NOI for the EIS and the associated public review process for the draft EA and proposed rule to implement the BDTRP, the agency will receive feedback on its determination of significance.

NMFS intends to develop and implement a BDTRP pursuant to section 118 of the Marine Mammal Protection Act (MMPA). The purpose of the proposed action is to reduce the incidental mortality and serious injury of the western North Atlantic coastal stock of bottlenose dolphins in commercial fisheries to below the PBR level for the stock. The BDTRP will address mortality and serious injury of western North Atlantic coastal bottlenose dolphins incidentally taken in the following Category I and II commercial fisheries: Mid-Atlantic coastal gillnet; North Carolina inshore gillnet; Southeast Atlantic gillnet; Southeastern U.S. Atlantic shark gillnet; Atlantic blue crab trap/pot; Mid-Atlantic haul/beach seine; North Carolina long haul seine; North Carolina roe mullet stop net; and Virginia pound net. The take reduction plan is being developed pursuant to the process described in section 118(f) of the MMPA.

Section 118(f) of the MMPA requires NMFS to convene a take reduction team to assist in the recovery and prevent the depletion of each strategic stock that interacts with Category I or II fisheries. The western North Atlantic coastal stock of bottlenose dolphins is a strategic stock. For more information about the stock, consult the SAR, as described in the Electronic Access portion of this notice. Strategic status was initially assigned because the stock is designated as depleted under the MMPA as a result of a large-scale mortality event that occurred in 1987-1988 (58 FR 17789, April 6, 1993). The stock also qualifies as strategic because mortality and serious injury of this stock incidental to commercial fishing exceeds the PBR level of the stock.

The immediate goal of a take reduction plan for a strategic stock of marine mammals is to reduce, within 6 months of plan implementation, the incidental mortality or serious injury of marine mammals taken in the course of commercial fishing operations to levels less than the PBR level (16 U.S.C. 1387). The long-term goal of the plan is to reduce, within 5 years of its implementation, the incidental mortality or serious injury of marine mammals taken in the course of commercial fishing operations to insignificant levels approaching a zero mortality and serious injury rate, taking into account the economics of the fishery, the availability of existing technology, and existing state or regional fishery management plans (16 U.S.C. 1387).

The Secretary of Commerce (Secretary) shall establish a take reduction team to address mortality or serious injury of strategic stocks of marine mammals interacting with Category I or II fisheries. Not later than 6 months after the date of establishment of a take reduction team, the Team is required to submit a draft take reduction plan for such stock to the Secretary, consistent with the other provisions of section 118 of the MMPA. The Secretary is required to take the draft take reduction plan submitted by the team into consideration and publish in the Federal Register the draft plan submitted by the team, any changes proposed by the Secretary with an explanation of the reasons therefor, and proposed regulations to implement such plan, for public review and comment.

Public Scoping Process

The BDTRT was established on November 7, 2001. A Federal Register notice announcing the convening of the BDTRT and its first meeting was published on October 24, 2001 (66 FR 53782). The Team met a total of five times before delivering consensus recommendations for the BDTRP to NMFS on May 7, 2002, and also met in April 2003 to review updated bottlenose dolphin abundance information and to augment the original recommendations where they did not meet the statutory requirements of the MMPA. The dates of the six meetings were: November 7-8, 2001; January 23-25, 2002; February 27-March 1, 2002; March 27-28, 2002; April 23-25, 2002; and April 1-3, 2003. Team meetings were open to the public and a public comment period was held following each day of meetings. Additionally, NMFS held three public meetings with potential Team members and other interested members of the public on May 15-16, 2001; July 11-12, 2001; and November 6, 2001. No additional scoping meetings are scheduled.

NMFS hired a commercial fisheries liaison to engage the commercial fishing sector by sharing information about the purpose of the Team, meeting dates and locations, and the discussion topics for upcoming meetings. The liaison used dockside visits, commercial fishing publications, and a commercial fishing expo to disseminate the information. NMFS generated and distributed a fact sheet about the Team and upcoming Team meetings, developed a Web site regarding the issue, and used mail and electronic mail to distribute information about meeting logistics and summaries to over 200 interested persons.

Analysis of Alternatives

NMFS will be analyzing alternatives that are reasonably expected to reduce mortality and serious injury of western North Atlantic coastal bottlenose dolphins to less than the PBR level within 6 months of implementation of the BDTRP. NMFS will be analyzing all reasonable alternatives, which include a status quo alternative and the recommendations submitted by the Team. The Team's recommendations can be obtained by contacting Katie Moore or Tanya Dobrzynski (see FOR FURTHER INFORMATION CONTACT).

NMFS will provide an opportunity for comment on the draft EA in conjunction with publication of the proposed regulations to implement the BDTRP. At that time, NMFS will also consider public comments received during the public comment period on the NOI to prepare an EIS for the BDTRP.

Dated: July 25, 2003.
Rebecca Lent,
Assistant Administrator for Regulatory Programs, National Marine Fisheries Service.

[FR Doc. 03-19521 Filed 7-30-03; 8:45 am]

BILLING CODE 3510-22-S